DEPARTMENT OF LABOR

Employment and Training Administration

[TA-W-38,470]

Plum Creek Timber, Pablo, Montana; Notice of Affirmative Determination Regarding Application for Reconsideration

By letter of May 18, 2001, the company requests administrative reconsideration of the Department's negative determination regarding eligibility to apply for Trade Adjustment Assistance (TAA) applicable to workers and former workers of the subject firm. The denial notice was signed on March 13, 2001, and was published in the Federal Register on May 9, 2001 (66 FR 23733).

The company provides evidence that further survey is warranted regarding customer purchases of softwood lumber.

Conclusion

After careful review of the application, I conclude that the claim is of sufficient weight to justify reconsideration of the Department of Labor's prior decision. The application is, therefore, granted.

Signed at Washington, D.C. this 25th day of June, 2001.
Edward A. Tomchick,
Director, Division of Trade Adjustment Assistance.

[FR Doc. 01-17359 Filed 7-10-01; 8:45 am]

BILLING CODE 4510-30-M